DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 9, 2010.

Interested persons are invited to submit written comments regarding the subject matter of the investigations to the Director, Division of Trade Adjustment Assistance, at the address shown below, not later than April 9, 2010.

The petitions filed in this case are available for inspection at the Division of Trade Adjustment Assistance, Employment and Training Administration, U.S. Department of Labor, Room N-5428, 200 Constitution Avenue, NW., Washington, DC 20210.

Signed at Washington, DC, this 12th day of March 2010.
Elliott Kushner,
Certifying Officer, Division of Trade Adjustment Assistance.

Appendix
[TAA petitions instituted between 2/22/10 and 2/26/10]
TA-W | Subject firm (petitioners) | Location | Date of institution | Date of petition
73523 | Vertis Communications (Wkrs) | Minneapolis, MN | 02/22/10 | 01/31/10
73524 | Evansville Association for the Blind (Comp) | Evansville, IN | 02/22/10 | 02/02/10
73525 | Haliburton Energy Services—Field Camps (State) | Duncan, OK | 02/22/10 | 02/17/10
73526 | Advanced Recycling Equipment (Wkrs) | St. Mary's, PA | 02/22/10 | 02/16/10
73527 | TGKY Corporation (Wkrs) | Lebanon, KY | 02/22/10 | 02/18/10
73528 | Sara Lee Corporation (Comp) | Mason, OH | 02/22/10 | 02/03/09
73529 | ACS Information Tech Solutions (State) | Waite Park, MN | 02/22/10 | 12/16/09
73530 | Astreya Partners (Wkrs) | Santa Clara, CA | 02/22/10 | 02/07/10
73531 | Titanium Metal Corporation (Wkrs) | Toronto, OH | 02/22/10 | 02/09/10
73532 | Rotodie Company, Inc. (Wkrs) | Meadows of Dan, VA | 02/22/10 | 02/16/10
73533 | Bontex, Inc. (Comp) | Buena Vista, VA | 02/22/10 | 02/17/10
73534 | US Natural Resources, Inc. (Union) | Woodland, WA | 02/22/10 | 02/01/10
73535 | Little Rock Express (Comp) | Houlton, ME | 02/22/10 | 02/19/10
73536 | Allstate Insurance Company (Wkrs) | Altoona, PA | 02/22/10 | 02/19/10
73537 | Peter Wolters of America (Wkrs) | West Springfield, MA | 02/22/10 | 02/10/10
73538 | JT Sports LLC (Comp) | Bentonville, AR | 02/22/10 | 02/12/10
73539 | Georgia-Pacific Consumer Products, LP (Union) | Green Bay, WI | 02/22/10 | 02/16/10
73540 | Keiper, LLC (Comp) | Eldon, MO | 02/22/10 | 02/18/10
73541 | TTC (Comp) | Knoxville, TN | 02/22/10 | 02/18/10
73542 | Sanofi-Aventis Pharmaceuticals (Comp) | Kansas City, MO | 02/22/10 | 02/10/10
73543 | Bumble Bee Foods, LLC (Comp) | Prospect Harbor, ME | 02/23/10 | 02/22/10
73544 | Premier Manufacturing (Union) | Fremont, CA | 02/23/10 | 02/16/10
73545 | TG California Automotive Sealing, Inc. (State) | Hayward, CA | 02/23/10 | 02/22/10
73546 | Beiersdorf, Inc. (State) | Norwalk, CT | 02/23/10 | 02/18/10
73547 | Acxiom Corporation (State) | Little Rock, AR | 02/23/10 | 02/22/10
73548 | RG Barry Corporation (Comp) | Pickerington, OH | 02/23/10 | 02/12/10
73549 | Caterpillar Inc. dba Dyersburg Transmission Facility (Comp) | Dyersburg, TN | 02/23/10 | 02/22/10
73550 | IBM (Wkrs) | Charlotte, NC | 02/23/10 | 02/16/10
73551 | Cemex, Inc. (Wkrs) | Davenport, CA | 02/23/10 | 02/12/10
73552 | Lincoln Foodservice Products, LLC (Union) | Fort Wayne, IN | 02/23/10 | 02/22/10
73553 | Concise Fabricators, Inc. (State) | Tucson, AZ | 02/24/10 | 02/23/10
73554 | Dixie Belle Textiles (Wkrs) | Elkin, NC | 02/24/10 | 02/20/10
73555 | Hewlett Packard Cooperation (Wkrs) | Omaha, NE | 02/24/10 | 02/17/10
73556 | Flextronics (Comp) | Creedmoor, NC | 02/24/10 | 02/23/10
73557 | Narriot Industries, LLC (Comp) | Boykins, VA | 02/24/10 | 02/22/10
73558 | Robert Bosch, LLC (Comp) | Johnson City, TN | 02/24/10 | 02/23/10
73559 | APM Terminals (Wkrs) | Charlotte, NC | 02/24/10 | 02/22/10
73560 | BCD Travel, Siemens World Travel (Wkrs) | Boise, ID | 02/24/10 | 02/23/10
73561 | Musashi Auto Parts (State) | Battle Creek, MI | 02/24/10 | 02/23/10
73562 | Colville Indian Plywood and Veneer (Comp) | Omak, WA | 02/25/10 | 02/24/10
73563 | IBM (Wkrs) | Sterling Forest, NY | 02/25/10 | 02/24/10
73564 | Thieman Stamping Company (Wkrs) | New Bremen, OH | 02/25/10 | 02/23/10
73565 | Fred Martin Motors (Wkrs) | Barberton, OH | 02/25/10 | 02/22/10
73566 | Precision Etchings & Findings, Inc. (Comp) | Warwick, RI | 02/25/10 | 02/24/10
73567 | Hirschler Manufacturing (State) | Kirkland, WA | 02/25/10 | 02/22/10
73568 | Scioto Plastics (Wkrs) | Franklin Furnace, OH | 02/25/10 | 02/24/10
73569 | Triton Holdings Inc./Bayview Edison Industries (State) | Mount Vernon, WA | 02/25/10 | 02/23/10
73570 | The Wichita Eagle (Wkrs) | Wichita, KS | 02/25/10 | 02/15/10
73571 | Halliburton Energy Services—Field Camps (State) | Duncan, OK | 02/26/10 | 02/17/10
73572 | Track Corporation (State) | Spring Lake, MI | 02/26/10 | 02/13/10
73573 | Lacie Limited (Wkrs) | Hillsboro, OR | 02/26/10 | 02/22/10
73574 | Kohler Company (Union) | Kohler, WI | 02/26/10 | 02/24/10
73575 | Springs Window Fashions, LLC (Comp) | Middleton, WI | 02/26/10 | 02/24/10
73576 | B/E Aerospace, Inc. (Wkrs) | Winston Salem, NC | 02/26/10 | 02/17/10
73577 | Aigis Mechtronics, Inc. (Wkrs) | Winston Salem, NC | 02/26/10 | 02/22/10
73578 | Burns Industrial Group (Comp) | Strongsville, OH | 02/26/10 | 02/19/10
73579 | Consolidated Glass and Mirror Corporation (Comp) | Galax, VA | 02/26/10 | 02/25/10
73580 | Rotometrics Virginia (Comp) | Meadows of Dan, VA | 02/26/10 | 02/23/10
73581 | Dell, Inc. (Wkrs) | Nashville, TN | 02/26/10 | 02/16/10
73582 | EDAG, LLC (Wkrs) | Auburn Hills, MI | 02/26/10 | 02/04/10
73583 | JPMorgan Chase (Wkrs) | Columbus, OH | 02/26/10 | 02/12/10

[FR Doc. 2010-6916 Filed 3-29-10; 8:45 am]

BILLING CODE 4510-FN-P